Title 3—

The President

Proclamation 10885 of January 20, 2025

Flying the Flag of the United States at Full-Staff on Inauguration Day

By the President of the United States of America

A Proclamation

By the authority vested in me by the Constitution and the laws of the United States of America, and in honor of Inauguration Day and everything good and noble that it represents about our Nation, our people, and our form of Government, I hereby order that, on this and all future Inauguration Days, the flag of the United States shall be flown at full-staff.

Accordingly, I hereby order that the flag of the United States shall be flown at full-staff at the White House and upon all public buildings and grounds, at all military posts and naval stations, and on all naval vessels of the Federal Government, in the District of Columbia and throughout the United States and its Territories and possessions, for the remainder of this day beginning immediately.

I also direct that, for the same period of time, the flag shall be flown at full-staff at all United States embassies, legations, consular offices, and other facilities abroad, including all military facilities and naval vessels and stations.

Upon the end of this Inauguration Day, I hereby order that the flag of the United States shall be returned to half-staff as directed by Proclamation 10876 of December 29, 2024 (Announcing the Death of James Earl Carter, Jr.), in recognition of the memory of our former President, until the period of 30 days from the day of his death has concluded.

IN WITNESS WHEREOF, I have hereunto set my hand this twentieth day of January, in the year of our Lord two thousand twenty-five, and of the Independence of the United States of America the two hundred and forty-ninth.

[FR Doc. 2025-01899

Filed 1-27-25; 8:45 am]

Billing code 3395-F4-P